ENVIRONMENTAL PROTECTION AGENCY

[EPA-HQ-OPPT-2025-3753; FRL-13134-01-OCSPP]

Expiration and Extension of Confidential Business Information (CBI) Claims Under the Toxic Substances Control Act (TSCA)

AGENCY: Environmental Protection Agency (EPA).

ACTION: Notice.

SUMMARY: On June 22, 2016, the Frank R. Lautenberg Chemical Safety for the 21st Century Act, which amended the Toxic Substances Control Act (TSCA), was signed into law. Under TSCA, non-exempt confidential business information (CBI) claims expire no later than 10 years after their submission. The first of these expire in June 2026. EPA is providing notice of its intended process for implementing the statutory requirements associated with expiring CBI claims, including confirming how the Agency will notify companies of expiring claims and how companies may request and substantiate the need for an extension of their CBI claims.

ADDRESSES: The docket for this action, identified by docket identification (ID) number EPA-HQ-OPPT-2025-3753, is available at https://www.regulations.gov. Additional information about dockets generally, along with instructions for visiting the docket in-person, is available at https://www.epa.gov/dockets.

FOR FURTHER INFORMATION CONTACT:

For technical information: Jessica Barkas, Chemical Information, Prioritization, and TRI Division, Office of Pollution Prevention and Toxics, U.S. Environmental Protection Agency, 1200 Pennsylvania Ave. NW, Washington, DC 20460-0001; telephone number: (202) 250-8880; email address: barkas.jessica@epa.gov.

For general information on TSCA: The TSCA Assistance Information Service Hotline, Goodwill Vision Enterprises, 422 South Clinton Ave., Rochester, NY 14620; telephone number: (800) 471-7127 or (202) 554-1404; email address: TSCA-Hotline@epa.gov.

SUPPLEMENTARY INFORMATION:

I. Executive Summary

A. Does this action apply to me?

This announcement is directed to the public in general. It may be of particular interest to entities that have submitted CBI to EPA under TSCA beginning in June 2016. Because this action is directed to the general public and other entities may also be interested, the Agency has not attempted to describe all the specific entities that may be interested in this action. If you have any questions regarding the applicability of this action to a particular entity, please consult the contact listed under FOR FURTHER INFORMATION CONTACT.

B. What is the Agency's authority for taking this action?

TSCA section 14(e)(1)(B) provides that information determined by EPA to be CBI shall be protected from disclosure “[. . .] for a period of 10 years from the date on which the person asserts the claim [. . .].” This period may be extended in accordance with TSCA section 14(e)(2)(B)(i) if “Not later than the date that is 30 days before the expiration of the period described in paragraph (1)(B)(i), a person reasserting the relevant claim [submits] to the Administrator a request for extension substantiating, in accordance with subsection (c)(3), the need to extend the period.”

C. What action is the Agency taking?

EPA is explaining how it intends to implement the requirements of TSCA section 14(e)(2), concerning the expiration and potential extension of the protection period for TSCA CBI claims. EPA previously published rules at 40 CFR 703 describing the Agency's procedures for notices concerning CBI claims as well as procedures and standards for Agency review of new and renewed requests for CBI protection.

This document provides further information on the form and manner in which EPA expects to provide notice of claim expiration and reporting instructions for entities seeking to request an extension of the initial 10-year period of CBI protection under TSCA section 14(e)(2)(B)(ii). EPA expects to refine these instructions and procedures as the Agency gains experience implementing TSCA section 14(e).

In accordance with TSCA section 14(e)(2)(A), EPA shall “[. . .] provide to the person that asserted the claim a notice of the impending expiration of the period” not later than 60 days prior to the date the claim is to expire. Per 40 CFR 703.5(h)(2) and (3), this notice will be made on EPA's website (or other appropriate platform) in the form of a public list of TSCA submissions with expiring CBI claims. Alternatively, or in addition, the Agency may transmit a direct notice to the submitter via the Central Data Exchange (CDX) available at https://cdx.epa.gov/, EPA's centralized electronic document system.

Expiration dates for CBI claims for information other than specific chemical identities are set 10 years from the date the information was submitted to EPA. CBI claims exempt from substantiation requirements and CBI review under TSCA section 14(c)(2) are also exempt from expiration under TSCA section 14(e)(1)(B).

Expiration dates for claims for the specific chemical identity of a substance are set 10 years from the first approved confidentiality claim for the specific chemical identity of that substance. Any subsequent TSCA submissions on that substance claiming the specific chemical identity as confidential do not reset that expiration date, meaning that in some instances submitters may be notified of an expiring CBI claim for specific chemical identity less than 10 years from the date of their later submissions. Expiration dates for chemical identities are available on the TSCA Chemical Substance Inventory available at https://www.epa.gov/tsca-inventory.

To extend an expiring CBI claim, an entity must submit a request for extension substantiating the need to extend the CBI protection. The extension period may last up to an additional 10 years. Substantiation requirements are provided in 40 CFR 703.5(a) and (b). Rules identifying information not subject either routine substantiation requirements or to 10-year expiration under TSCA section 14(e) can be found in 40 CFR 703.5(b)(5). Per TSCA section 14(e)(2)(B)(ii), EPA will review each request for extension and either grant or deny the request.

Submitters must electronically submit their substantiated request for extension, using the appropriate reporting tool in CDX. EPA is currently developing this tool. More specific instructions for submitting requests for extension will be made available prior to publication of the initial notices of CBI claim expiration. EPA expects to have the CDX tool in place prior to the time claims begin to expire. If there is a delay, EPA will provide notice of this delay and provide an estimated date of completion on the EPA's TSCA CBI website available at https://www.epa.gov/tsca-cbi. Should a delay occur, submitters should postpone sending extension requests until EPA has provided notice that the CDX tool is available. Under 15 U.S.C. 2613(g)(1)(D), EPA will not release any information subject to expiring claims until the notice and review requirements of section 14(e) are met.

If EPA does not receive a timely request for extension via the CDX reporting tool, the Agency would no longer be required to safeguard the previously protected information from disclosure, and the information may be made public without further notice to the submitter. See 15 U.S.C. 2613(g)(2)(C)(iii)(II) (notice of disclosure not required where a CBI claim has expired and no person submitted a timely extension request following timely notice of expiration).

D. Considerations for Entities Prior to the Claim Expiration Date

EPA anticipates providing individual notices via CDX communications consistent with 40 CFR 703.5(h)(2) and publishing lists of TSCA submissions and information for which claims will be expiring, consistent with 40 CFR 703.5(h)(3). To receive notice via CDX, submitters must maintain or update their contact information, as described in 40 CFR 703.5(h)(1).

EPA recommends that entities that submitted TSCA information in June 2016 or later should consider several issues well in advance of the end of the 10-year period of CBI claim protection. For example, CBI claim submitters should assess whether confidentiality remains necessary for expiring claims and identify the person(s) designated as the technical contact(s) for any TSCA submissions asserting an expiring CBI claim.

In addition to updating company contact information as discussed in this Unit (see 40 CFR 703.5(h)(1)), companies or company contacts with lapsed or inaccessible CDX accounts should reestablish that access by contacting and working with the CDX helpdesk available at helpdesk@epacdx.net as early as possible. In general, submitters should take care to preserve their CDX passphrases to expedite access to their TSCA submissions.

Companies should also consider whether they submitted information claimed as CBI outside of CDX (e.g., paper TSCA filings pre-dating electronic filing requirements for that submission type, or physical material provided to EPA pursuant to a TSCA subpoena or inspection). Such entities should regularly consult EPA's online notice of CBI filings with expiring claims and submissions with expiring claims to determine if they have submissions eligible for CBI protection extension.

EPA plans to communicate with stakeholders prior to and after the CBI claim extension process begins. EPA anticipates the CBI claim extension process will begin in spring 2026. EPA expects to provide further guidance, to solicit and answer questions, and potentially to host a webinar with information on notices of expiration and instructions for requesting extensions. Entities should monitor the Federal Register and EPA websites, listservs, and other communications for further information about expiring TSCA CBI claims and when and how to request CBI protection extensions.

(Authority: 15 U.S.C. 2613.)

Dated: December 30, 2025.
Mary Elissa Reaves,
Director, Office of Pollution Prevention and Toxics.

[FR Doc. 2026-00002 Filed 1-5-26; 8:45 am]

BILLING CODE 6560-50-P